DEPARTMENT OF TRANSPORTATION

Federal Aviation Administration

14 CFR Part 97

[Docket No. 31139; Amdt. No. 3751]

Standard Instrument Approach Procedures, and Takeoff Minimums and Obstacle Departure Procedures; Miscellaneous Amendments

AGENCY: Federal Aviation Administration (FAA), DOT.

ACTION: Final rule.

SUMMARY: This rule establishes, amends, suspends, or removes Standard Instrument Approach Procedures (SIAPs) and associated Takeoff Minimums and Obstacle Departure Procedures (ODPs) for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective July 13, 2017. The compliance date for each SIAP, associated Takeoff Minimums, and ODP is specified in the amendatory provisions.

The incorporation by reference of certain publications listed in the regulations is approved by the Director of the Federal Register as of July 13, 2017.

ADDRESSES: Availability of matters incorporated by reference in the amendment is as follows:

For Examination

1. U.S. Department of Transportation, Docket Ops-M30, 1200 New Jersey Avenue SE., West Bldg., Ground Floor, Washington, DC 20590-0001.

2. The FAA Air Traffic Organization Service Area in which the affected airport is located;

3. The office of Aeronautical Navigation Products, 6500 South MacArthur Blvd., Oklahoma City, OK 73169 or,

4. The National Archives and Records Administration (NARA). For information on the availability of this material at NARA, call 202-741-6030, or go to: http://www.archives.gov/federal_register/code_of_federal_regulations/ibr_locations.html.

Availability

All SIAPs and Takeoff Minimums and ODPs are available online free of charge. Visit the National Flight Data Center at nfdc.faa.gov to register. Additionally, individual SIAP and Takeoff Minimums and ODP copies may be obtained from the FAA Air Traffic Organization Service Area in which the affected airport is located.

FOR FURTHER INFORMATION CONTACT: Thomas J. Nichols, Flight Procedure Standards Branch (AFS-420), Flight Technologies and Programs Divisions, Flight Standards Service, Federal Aviation Administration, Mike Monroney Aeronautical Center, 6500 South MacArthur Blvd. Oklahoma City, OK 73169 (Mail Address: P.O. Box 25082, Oklahoma City, OK 73125) Telephone: (405) 954-4164.

SUPPLEMENTARY INFORMATION: This rule amends Title 14 of the Code of Federal Regulations, part 97 (14 CFR part 97), by establishing, amending, suspending, or removes SIAPS, Takeoff Minimums and/or ODPS. The complete regulatory description of each SIAP and its associated Takeoff Minimums or ODP for an identified airport is listed on FAA form documents which are incorporated by reference in this amendment under 5 U.S.C. 552(a), 1 CFR part 51, and 14 CFR part § 97.20. The applicable FAA forms are FAA Forms 8260-3, 8260-4, 8260-5, 8260-15A, and 8260-15B when required by an entry on 8260-15A.

The large number of SIAPs, Takeoff Minimums and ODPs, their complex nature, and the need for a special format make publication in the Federal Register expensive and impractical. Further, airmen do not use the regulatory text of the SIAPs, Takeoff Minimums or ODPs, but instead refer to their graphic depiction on charts printed by publishers of aeronautical materials. Thus, the advantages of incorporation by reference are realized and publication of the complete description of each SIAP, Takeoff Minimums and ODP listed on FAA form documents is unnecessary. This amendment provides the affected CFR sections and specifies the types of SIAPs, Takeoff Minimums and ODPs with their applicable effective dates. This amendment also identifies the airport and its location, the procedure, and the amendment number.

Availability and Summary of Material Incorporated by Reference

The material incorporated by reference is publicly available as listed in the ADDRESSES section.

The material incorporated by reference describes SIAPS, Takeoff Minimums and/or ODPS as identified in the amendatory language for part 97 of this final rule.

The Rule

This amendment to 14 CFR part 97 is effective upon publication of each separate SIAP, Takeoff Minimums and ODP as Amended in the transmittal. Some SIAP and Takeoff Minimums and textual ODP amendments may have been issued previously by the FAA in a Flight Data Center (FDC) Notice to Airmen (NOTAM) as an emergency action of immediate flight safety relating directly to published aeronautical charts.

The circumstances that created the need for some SIAP and Takeoff Minimums and ODP amendments may require making them effective in less than 30 days. For the remaining SIAPs and Takeoff Minimums and ODPs, an effective date at least 30 days after publication is provided.

Further, the SIAPs and Takeoff Minimums and ODPs contained in this amendment are based on the criteria contained in the U.S. Standard for Terminal Instrument Procedures (TERPS). In developing these SIAPs and Takeoff Minimums and ODPs, the TERPS criteria were applied to the conditions existing or anticipated at the affected airports. Because of the close and immediate relationship between these SIAPs, Takeoff Minimums and ODPs, and safety in air commerce, I find that notice and public procedure under 5 U.S.C. 553(b) are impracticable and contrary to the public interest and, where applicable, under 5 U.S.C. 553(d), good cause exists for making some SIAPs effective in less than 30 days.

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air Traffic Control, Airports, Incorporation by reference, Navigation (air).

Issued in Washington, DC, on June 2, 2017.
John S. Duncan,
Director, Flight Standards Service.

Adoption of the Amendment

Accordingly, pursuant to the authority delegated to me, Title 14, Code of Federal Regulations, part 97 (14 CFR part 97) is amended by establishing, amending, suspending, or removing Standard Instrument Approach Procedures and/or Takeoff Minimums and Obstacle Departure Procedures effective at 0901 UTC on the dates specified, as follows:

PART 97—STANDARD INSTRUMENT APPROACH PROCEDURES

1. The authority citation for part 97 continues to read as follows:

Authority: 49 U.S.C. 106(f), 106(g), 40103, 40106, 40113, 40114, 40120, 44502, 44514, 44701, 44719, 44721-44722.

2. Part 97 is amended to read as follows:

Effective 20 July 2017

Boca Raton, FL, Boca Raton, RNAV (GPS) Y RWY 23, Amdt 1A

Boca Raton, FL, Boca Raton, RNAV (RNP) Z RWY 23, Orig-A

Orlando, FL, Orlando Sanford Intl, ILS OR LOC RWY 27R, Amdt 4

Orlando, FL, Orlando Sanford Intl, RNAV (GPS) RWY 27R, Amdt 4

Poughkeepsie, NY, Hudson Valley Rgnl, RNAV (GPS) RWY 6, Orig-E

Logan, WV, Logan County, RNAV (GPS) RWY 6, Amdt 1

Logan, WV, Logan County, RNAV (GPS) RWY 24, Amdt 1

Effective 17 August 2017

Nondalton, AK, Nondalton, RNAV (GPS) RWY 2, Orig-B

Platinum, AK, Platinum, RNAV (GPS) RWY 14, Amdt 2

Platinum, AK, Platinum, Takeoff Minimums and Obstacle DP, Amdt 2

Wrangell, AK, Wrangell, LDA-C, Amdt 8A

Wrangell, AK, Wrangell, LDA-D, Amdt 7A

Wrangell, AK, Wrangell, LEVEL ISLAND THREE, Graphic DP

Montgomery, AL, Montgomery Rgnl (Dannelly Field), ILS OR LOC RWY 10, Amdt 24

Rogers, AR, Rogers Executive—Carter Field, ILS OR LOC RWY 20, Amdt 4

Rogers, AR, Rogers Executive—Carter Field, RNAV (GPS) RWY 2, Amdt 1

Phoenix, AZ, Phoenix Deer Valley, RNAV (GPS) RWY 7R, Amdt 1A

Columbia, CA, Columbia, FICHU TWO, Graphic DP

Columbia, CA, Columbia, RNAV (GPS) RWY 35, Orig-B

Columbia, CA, Columbia, Takeoff Minimums and Obstacle DP, Amdt 1

Los Angeles, CA, Los Angeles Intl, Takeoff Minimums and Obstacle DP, Amdt 14

South Lake Tahoe, CA, Lake Tahoe, LDA/DME 2 RWY 18, Amdt 1B, CANCELED

Wray, CO, Wray Muni, RNAV (GPS) RWY 17, Amdt 1B

Palatka, FL, Palatka Muni—Lt Kay Larkin Field, RNAV (GPS) RWY 9, Orig-B

Punta Gorda, FL, Punta Gorda, RNAV (GPS) RWY 22, Amdt 2

Blakely, GA, Early County, RNAV (GPS) RWY 5, Amdt 2A

Blakely, GA, Early County, RNAV (GPS) RWY 23, Amdt 2A

Butler, GA, Butler Muni, RNAV (GPS) RWY 18, Amdt 1A

Louisville, GA, Louisville Muni, RNAV (GPS) RWY 13, Orig

Louisville, GA, Louisville Muni, RNAV (GPS) RWY 31, Orig

Louisville, GA, Louisville Muni, Takeoff Minimums and Obstacle DP, Orig

Thomasville, GA, Thomasville Rgnl, RNAV (GPS) RWY 4, Orig

Tifton, GA, Henry Tift Myers, ILS OR LOC RWY 34, Amdt 2A

Tifton, GA, Henry Tift Myers, RNAV (GPS) RWY 16, Orig-A

Tifton, GA, Henry Tift Myers, RNAV (GPS) RWY 34, Amdt 1A

Tifton, GA, Henry Tift Myers, Takeoff Minimums and Obstacle DP, Amdt 6A

Valdosta, GA, Valdosta Rgnl, RNAV (GPS) RWY 17, Amdt 2A

Ames, IA, Ames Muni, ILS OR LOC RWY 1, Amdt 3

Fort Madison, IA, Fort Madison Muni, RNAV (GPS) RWY 17, Orig-B

Fort Madison, IA, Fort Madison Muni, RNAV (GPS) RWY 35, Orig-C

Peoria, IL, Mount Hawley Auxiliary, RNAV (GPS) RWY 18, Amdt 2

Indianapolis, IN, Indy South Greenwood, RNAV (GPS) RWY 1, Amdt 2

Kokomo, IN, Kokomo Muni, VOR RWY 32, Amdt 21

Marlette, MI, Marlette, RNAV (GPS) RWY 9, Amdt 1B

Marlette, MI, Marlette, RNAV (GPS) RWY 19, Orig-B

Marlette, MI, Marlette, RNAV (GPS) RWY 27, Amdt 1B

Ontonagon, MI, Ontonagon County—Schuster Field, RNAV (GPS) RWY 35, Orig

Ontonagon, MI, Ontonagon County—Schuster Field, RNAV (GPS)-A, Orig-A, CANCELED

Longville, MN, Longville Muni, NDB RWY 31, Amdt 1

Longville, MN, Longville Muni, RNAV (GPS) RWY 13, Orig

St Paul, MN, St Paul Downtown Holman Fld, ILS OR LOC RWY 14, Amdt 2

St Paul, MN, St Paul Downtown Holman Fld, ILS OR LOC RWY 32, Amdt 6

St Paul, MN, St Paul Downtown Holman Fld, NDB RWY 31, Amdt 9

St Paul, MN, St Paul Downtown Holman Fld, RNAV (GPS) RWY 14, Amdt 1B

St Paul, MN, St Paul Downtown Holman Fld, RNAV (GPS) RWY 32, Amdt 1

St Paul, MN, St Paul Downtown Holman Fld, Takeoff Minimums and Obstacle DP, Amdt 8A

Joplin, MO, Joplin Rgnl, ILS OR LOC/NDB RWY 13, Orig-C

Joplin, MO, Joplin Rgnl, LOC BC RWY 31, Amdt 21D

West Plains, MO, West Plains Muni, VOR RWY 36, Amdt 1, CANCELED

Columbus, MS, Columbus-Lowndes County, RNAV (GPS) RWY 18, Amdt 1

Columbus, MS, Columbus-Lowndes County, RNAV (GPS) RWY 36, Amdt 1

Columbus, MS, Columbus-Lowndes County, VOR-A, Amdt 14

Hattiesburg, MS, Hattiesburg-Laurel Rgnl, ILS OR LOC RWY 18, Amdt 7B

Pascagoula, MS, Trent Lott Intl, VOR-A, Amdt 1B, CANCELED

Roanoke Rapids, NC, Halifax-Northampton Rgnl, RNAV (GPS) RWY 2, Amdt 2

Roanoke Rapids, NC, Halifax-Northampton Rgnl, RNAV (GPS) RWY 20, Amdt 2

Roanoke Rapids, NC, Halifax-Northampton Rgnl, Takeoff Minimums and Obstacle DP, Amdt 1

Roanoke Rapids, NC, Halifax-Northampton Rgnl, VOR RWY 2, Amdt 1

Salisbury, NC, Mid-Carolina Rgnl, ILS OR LOC RWY 20, Amdt 1B

Salisbury, NC, Mid-Carolina Rgnl, RNAV (GPS) RWY 2, Amdt 1B

Salisbury, NC, Mid-Carolina Rgnl, RNAV (GPS) RWY 20, Amdt 1B

Salisbury, NC, Mid-Carolina Rgnl, Takeoff Minimums and Obstacle DP, Amdt 2A

Seward, NE, Seward Muni, NDB RWY 16, Orig, CANCELED

Seward, NE, Seward Muni, NDB RWY 34, Orig-A, CANCELED

Winnemucca, NV, Winnemucca Muni, RNAV (GPS) RWY 32, Orig-A

New York, NY, LaGuardia, COPTER RNAV (GPS) 250, Orig-B

New York, NY, Long Island Mac Arthur, RNAV (GPS) RWY 24, Amdt 3

Stormville, NY, Stormville, Takeoff Minimums and Obstacle DP, Orig, SUSPEND

Stormville, NY, Stormville, VOR OR GPS-A, Amdt 4A, SUSPEND

Cambridge, OH, Cambridge Muni, LOC/DME RWY 22, Amdt 1C, CANCELED

East Liverpool, OH, Columbia County, Takeoff Minimums and Obstacle DP, Amdt 2A

Millersburg, OH, Holmes County, VOR-A, Amdt 7, CANCELED

Ada, OK, Ada Rgnl, RNAV (GPS) RWY 18, Amdt 1

Ada, OK, Ada Rgnl, RNAV (GPS) RWY 36, Amdt 1

Ada, OK, Ada Rgnl, Takeoff Minimums and Obstacle DP, Amdt 4

Ada, OK, Ada Rgnl, VOR RWY 18, Amdt 2

Burns Flat, OK, Clinton-Sherman, RNAV (GPS) RWY 17R, Amdt 1A

Burns Flat, OK, Clinton-Sherman, RNAV (GPS) RWY 35L, Amdt 1A

Burns Flat, OK, Clinton-Sherman, VOR RWY 35L, Amdt 12A

Lawton, OK, Lawton-Fort Sill Rgnl, RNAV (GPS) RWY 35, Amdt 1

Medford, OR, Rogue Valley Intl—Medford, RNAV (GPS) Y RWY 14, Amdt 1A

Kingstree, SC, Williamsburg Rgnl, RNAV (GPS) RWY 14, Orig

Kingstree, SC, Williamsburg Rgnl, RNAV (GPS) RWY 32, Amdt 1

Kingstree, SC, Williamsburg Rgnl, Takeoff Minimums and Obstacle DP, Amdt 2

Lake City, SC, Lake City Muni CJ Evans Field, RNAV (GPS) RWY 19, Orig-A

Jasper, TN, Marion County-Brown Field, NDB RWY 4, Amdt 5A, CANCELED

Rogersville, TN, Hawkins County, GPS RWY 7, Orig-B, CANCELED

Rogersville, TN, Hawkins County, RNAV (GPS) RWY 7, Orig

Rogersville, TN, Hawkins County, RNAV (GPS) RWY 25, Orig

Dallas, TX, Dallas Love Field, Takeoff Minimums and Obstacle DP, Amdt 17

Lakeway, TX, Lakeway Airpark, RNAV (GPS) RWY 16, Amdt 1B

Nephi, UT, Nephi Muni, NEPHI TWO, Graphic DP

Renton, WA, Renton Muni, RNAV (GPS) Y RWY 16, Amdt 5

Renton, WA, Renton Muni, RNAV (GPS) Z RWY 16, Amdt 3

Mosinee, WI, Central Wisconsin, ILS OR LOC RWY 8, Amdt 14

Mosinee, WI, Central Wisconsin, ILS OR LOC RWY 35, Amdt 3

Mosinee, WI, Central Wisconsin, RNAV (GPS) RWY 8, Amdt 1C

Mosinee, WI, Central Wisconsin, RNAV (GPS) RWY 26, Amdt 1C

Mosinee, WI, Central Wisconsin, RNAV (GPS) RWY 35, Amdt 2

[FR Doc. 2017-14519 Filed 7-12-17; 8:45 am]

BILLING CODE 4910-13-P